NUCLEAR REGULATORY COMMISSION

[Docket Nos. 50-498 and 50-499]

STP Nuclear Operating Company, et al.; Notice of Issuance of Amendments to Facility Operating Licenses

The U.S. Nuclear Regulatory Commission (Commission) has issued Amendment No. 157 to Facility Operating License (FOL) No. NPF-76 and Amendment No. 145 to FOL No. NPF-80 for the South Texas Project, Units 1 and 2, respectively, issued to STP Nuclear Operating Company, et al. (the licensee). South Texas Project, Units 1 and 2 is located in Matagorda County, Texas. The amendments consist of changes to the FOLs and Appendix C to the FOLs. The amendments delete antitrust conditions contained in the FOLs, and Appendix C, for South Texas Project, Units 1 and 2. The amendments are effective as of the date of issuance.

The application for the amendments complies with the standards and requirements of the Atomic Energy Act of 1954, as amended (the Act), and the Commission's rules and regulations. The Commission has made appropriate findings as required by the Act and the Commission's rules and regulations in 10 CFR Chapter I, which are set forth in the license amendments. Notice of Consideration of Issuance of Amendment to Facility Operating License and Opportunity for a Hearing in connection with this action was published in the Federal Register on October 1, 2002 (67 FR 61685) and September 12, 2003 (68 FR 53758). No request for a hearing or petition for leave to intervene was filed following these notices.

The Commission has prepared an Environmental Assessment related to the action and has determined not to prepare an environmental impact statement. Based upon the environmental assessment, the Commission has concluded that the issuance of the amendments will not have a significant effect on the quality of the human environment (68 FR 53760 dated September 12, 2003).

Further details with respect to the action see (1) the application for amendments dated August 20, 2002, (2) Amendment No. 157 to License No. NPF-76 and Amendment No. 145 to License No. NPF-80, (3) the Commission's related Safety Evaluation, and (4) the Commission's Environmental Assessment. Documents may be examined, and/or copied for a fee, at the NRC's Public Document Room, located at One White Flint North, Public File Area O1 F21,11555 Rockville Pike (first floor), Rockville, Maryland. Publicly available records will be accessible electronically from the Agencywide Documents Access and Management Systems (ADAMS) Public Electronic Reading Room on the Internet at the NRC Web site, http://www.nrc.gov/NRC/ADAMS/index.html. Persons who do not have access to ADAMS or who encounter problems in accessing the documents located in ADAMS, should contact the NRC Public Document Room Reference staff by telephone at 1-800-397-4209, 301-415-4737, or by email to pdr@nrc.gov.

Dated at Rockville, Maryland, this 31st day of October 2003.
For the Nuclear Regulatory Commission.
David H. Jaffe,
Senior Project Manager, Section 1, Project Directorate IV, Division of Licensing Project Management, Office of Nuclear Reactor Regulation.

[FR Doc. 03-28294 Filed 11-10-03; 8:45 am]

BILLING CODE 7590-01-P